DEPARTMENT OF EDUCATION

Reopening the Application for Title V Eligibility Designation for Fiscal Year 2014; Promoting Postbaccalaureate Opportunities for Hispanic Americans Program (PPOHA)

AGENCY: Office of Postsecondary Education, Department of Education.

ACTION: Notice.

Catalog of Federal Domestic Assistance (CFDA) Number: 84.031M.

SUMMARY: In this notice, the Department announces the reopening of the period for submitting an application for a designation of eligibility under the PPOHA program by those institutions that intend to apply for a grant under the PPOHA program to be announced later in 2014. The decision to hold a new competition for PPOHA was made after the FY 2014 Eligibility Notice deadline of March 7, 2014. The eligibility process is being reopened to allow institutions that have not yet applied for eligibility to submit applications. This limited reopening is intended to ensure that all potential applicants to the PPOHA program have the opportunity to submit applications for eligibility prior to the announcement of this competition. If you have already submitted an application for eligibility in response to the FY 2014 Eligibility Notice, you do not need to resubmit your application.

DATES: Application Available: April 14, 2014.

Deadline for Transmittal of Applications: May 14, 2014.

ADDRESSES: Applications for designation of eligibility must be submitted electronically using the following Web site: https://opeweb.ed.gov/title3and5.

To enter the Web site, you must use your institution's unique eight-digit identifier, i.e., your Office of Postsecondary Education Identification Number (OPE ID Number). Your business office or student financial aid office should have the OPE ID Number. If not, contact the Department using the email addresses listed in this notice under For Applications and Further Information Contact.

You will find detailed instructions for completing the application form electronically at the following Web site: http://www2.ed.gov/about/offices/list/ope/idues/eligibility2014.pdf.

For Applications and Further Information Contact: Robyn Wood or Jeffrey Hartman, Institutional Service, U.S. Department of Education, 1990 K Street NW., Room 6042, Request for Eligibility Designation, Washington, DC 20006-8513.

You can contact these individuals at the following email addresses or phone numbers:

Robyn.Wood@ed.gov, 202-502-7437.

Jeffrey.Hartman@ed.gov, 202-502-7607.

If you use a telecommunications device for the deaf (TDD) or a text telephone (TTY), call the Federal Relay Service (FRS), toll free, at 1-800-877-8339.

SUPPLEMENTARY INFORMATION: On January 13, 2014, we published in the Federal Register (79 FR 2161) a notice inviting applications for designation as an eligible institution for the programs authorized under title III and title V of the Higher Education Act of 1965, as amended (FY 2014 Eligibility Notice). The FY 2014 Eligibility Notice established a March 7, 2014, deadline date for applicants to apply for designation as an eligible institution under the title III and title V programs. For the PPOHA program only, this notice reopens the deadline date for applicants to apply for designation as an eligible institution.

Accessible Format: Individuals with disabilities can obtain this document in an accessible format (e.g., braille, large print, audio tape, or compact disc) on request to one of the contact persons listed under FOR APPLICATIONS AND FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site. You may also access documents of the Department published in the Federal Register by using the article search feature at: www.federalregister.gov. Specifically, through the advanced search feature at this site, you can limit your search to documents published by the Department.

Program Authority: 20 U.S.C. 1102-1102c.

Dated: April 9, 2014.
Lynn B. Mahaffie,
Senior Director, Policy Coordination, Development, and Accreditation Service, delegated the authority to perform the functions and duties of the Assistant Secretary for Postsecondary Education.

[FR Doc. 2014-08376 Filed 4-11-14; 8:45 am]

BILLING CODE 4000-01-P